DEPARTMENT OF TRANSPORTATION

Office of the Secretary

Aviation Proceedings, Agreements Filed Between April 7, and April 18, 2003

The following Agreements were filed with the Department of Transportation under the provisions of 49 U.S.C. 412 and 414. Answers may be filed within 21 days after the filing of the application.

Applications filed during week ending: April 11, 2003.

Docket Number: OST-2003-14887

Date Filed: April 7, 2003

Parties: Members of the International Air Transport Association

Subject:

PTC2 AFR 0134 dated 14 March 2003

TC2 Africa Policy Group Report

PTC2 AFR 0136 dated 18 March 2003

Mail Vote 276—TC2 Within Africa Resolutions

PTC2 AFR Fares 0046 dated 21 March 2003

Intended effective date: 1 May 2003

Docket Number: OST-2003-14902

Date Filed: April 8, 2003

Parties: Members of the International Air Transport Association

Subject:

PTC23 ME-TC3 0172 dated 11 April 2003

Mail Vote 291—Resolution 010f TC23/123 Middle East-South East Asia Special Passenger Amending Resolution from Chinese Taipei

PTC23 AFR-TC3 0198 dated 11 April 2003

Mail Vote 291—Resolution 010f TC23/123 Africa-South East Asia Special Passenger Amending Resolution from Chinese Taipei,

Intended effective date: 15 April 2003

Applications filed during week ending: April 18, 2003.

Docket Number: OST-2003-14957

Date File: April 16, 2003

Parties: Members of the International Air Transport Association

Subject:

PTC2 ME-AFR 0102 dated 25 March 2003

Mail Vote 284—TC2 Middle East-Africa Resolutions

Minutes—PTC2 ME-AFR 0100 dated 11 March 2003

Fares—PTC2 ME-AFR Fares 0057 dated 28 March 2003

Intended effective date: 1 May 2003

Docket Number: OST-2003-14958

Date Filed: April 16, 2003

Parties: Members of the International Air Transport Association

Subject:

PTC123 0231 dated 18 April 2003

Mail Vote 293—Resolution 010g

TC123 North/Mid/South Atlantic

Special Passenger Amending Resolution from Korea (Rep. of),

Intended effective date: 1 May 2003

Docket Number: OST-2003-14962

Date Filed: April 16, 2003

Parties: Members of the International Air Transport Association

Subject:

PTC123 0232 dated 18 April 2003

Mail Vote 294—Resolution 010i

TC123 North Atlantic

Special Passenger Amending Resolution from Korea (Rep. of) to USA

Intended effective date: 1 May 2003

Dorothy Y. Beard,
Chief, Docket Operations & Media Management, Federal Register Liaison.

[FR Doc. 03-10696 Filed 4-30-03; 8:45 am]

BILLING CODE 4910-62-P